DEPARTMENT OF TRANSPORTATION

Federal Aviation Administration

Fiftieth Meeting, RTCA Special Committee 186: Automatic Dependent Surveillance—Broadcast (ADS-B)

AGENCY: Federal Aviation Administration (FAA), DOT.

ACTION: Notice of RTCA Special Committee 186: Automatic Dependent Surveillance—Broadcast (ADS-B) meeting.

SUMMARY: The FAA is issuing this notice to advise the public of a meeting of RTCA Special Committee 186: Automatic Dependent Surveillance—Broadcast (ADS-B).

DATES: The meeting will be held December 14-17, 2009, 8 a.m. on December 17th/9 a.m. on the other days.

ADDRESSES: The meeting will be held at the RTCA Conference Rooms at 1828 L Street, NW., Suite 805, Washington, DC 20036.

FOR FURTHER INFORMATION CONTACT: (1) RTCA Secretariat, 1828 L Street, NW., Suite 805, Washington, DC 20036, (202) 833-9339; fax (202) 833-9434; Web site http://www.rtca.org.

SUPPLEMENTARY INFORMATION: Pursuant to section 10(a)(2) of the Federal Advisory Committee Act (Pub. L. 92-463, 5 U.S.C., Appendix 2), notice is hereby given for a Special Committee 186: Automatic Dependent Surveillance—Broadcast (ADS-B) meeting. The agenda will include:

Specific Working Group Sessions

Monday, December 14

• RTCA—All Day, RFG, MacIntosh—NBAA Room & Hilton—ATA Room.

Tuesday, December 15

• RTCA—All Day, RFG, MacIntosh—NBAA Room & Hilton—ATA Room.

Wednesday, December 16

• RTCA—All Day, RFG, MacIntosh—NBAA Room & Hilton—ATA Room.

• RTCA—All Day, WG-4, Colson Board Room.

Thursday, December 17

Plenary Session—See Agenda Below

Joint RTCA SC-186/EUROCAE WG-51

Agenda—Plenary Session—Agenda—December 17, 2009

(RTCA—Washington, DC—MacIntosh—NBAA Room & Hilton—ATA Room and EUROCAE)

Starting at 8 a.m. at RTCA and 2 p.m. in Europe

(WebEx and Phone Bridge information to be provided.)

• Chairman's Introductory Remarks, Review of Meeting Agenda.

• Review/Approval of the Forty-Ninth Meeting Summary, RTCA Paper No. 230-09/SC186-289.

• Consider for Approval—New Document—Safety, Performance and Interoperability Requirements Document for Enhanced Traffic Situational Awareness During Flight Operations (ATSA-AIRB), RTCA Paper No. 188-09/SC186-284.

• FAA Surveillance and Broadcast Services (SBS) Program—Status.

• Review of EUROCAE WG-51 Activities.

• Date, Place and Time of Next Meeting.

• Working Group Reports.

• WG-1—Operations and Implementation.

• WG-2—TIS-B MASPS.

• WG-3—1090 MHz MOPS.

• WG-4—Application Technical Requirements.

• WG-5—UAT MOPS.

• RFG—Requirements Focus Group.

• ADS-B ITP Coordination with SC-214 for Data Link Requirements—Review/Approve ISRA Form and DO-306 Recommendations.

• New Business.

• Other Business.

• Review Action Items/Work Programs.

• Adjourn Plenary.

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on November 23, 2009.
Francisco Estrada C.,
RTCA Advisory Committee.

[FR Doc. E9-28644 Filed 11-30-09; 8:45 am]

BILLING CODE 4910-13-P